Proclamation 10672 of November 9, 2023

National Apprenticeship Week, 2023

By the President of the United States of America

A Proclamation

I have always believed that the middle class built America and unions built the middle class, and Registered Apprenticeship programs across our country have produced some of the best-trained workers in the world. During National Apprenticeship Week, we recommit to supporting Registered Apprenticeship programs, which offer America's workers direct pathways to good-paying jobs with dignity and respect.

I ran for office to build an economy from the middle out and bottom up—one in which every American willing to work hard can get a job wherever they call home. Registered Apprenticeships make that possible for so many by honing their skills, paying them while they learn, and putting them on a path to get a good-paying job. Apprenticeships not only strengthen our workforce today, they give workers the skills needed for industries of the future—whether it is modernizing our infrastructure and building clean energy technologies or addressing cybersecurity threats.

That is why we have invested more in Registered Apprenticeships and career technology education programs than any previous administration in American history. Our American Rescue Plan and Bipartisan Infrastructure Law have invested billions of dollars in workforce training for good jobs, including significant investments to help States, employers, labor organizations, educational institutions, and workforce intermediaries develop and expand Registered Apprenticeship and pre-apprenticeship programs. My Administration's efforts have already helped develop over 4,000 new Registered Apprenticeship programs and led to the hiring of more than one million new apprentices. Through enhanced tax credits our Inflation Reduction Act provides strong incentives for employers to connect Registered Apprentices with clean energy projects that are essential in our work to build a clean energy future in America.

Last year, my Administration launched programs designed to strengthen and diversify Registered Apprenticeships across industries. Our Apprenticeship Ambassador Initiative assembles a national network of more than 200 organizations committed to increasing the number of apprentices across many industries while recruiting people from historically underrepresented communities to join the American workforce and participate in industries of the future. These organizations have already committed to hiring over 10,000 new apprentices. This initiative includes creating clean energy apprenticeships and jobs in communities that have suffered legacy pollution. Additionally, these Registered Apprenticeships help employers build a more diverse workforce while empowering workers with the resources they need to thrive, including on-the-job learning experience, job-related instruction with a mentor, and a clear pathway to a good-paying job. Through the Department of Labor's Women in Apprenticeship and Nontraditional Occupations grant program, my Administration is also continuing to invest in training women to enter the skilled trades and other occupations where they have long been underrepresented.

In addition, we are working within industries to address workforce needs in critical sectors. Through my Administration's Advanced Manufacturing Sprint and Workforce Hubs Initiative, we are working to secure private-sector, union, State, and local commitments to expand pre-apprenticeship and Registered Apprenticeship programs. The Department of Education and the Department of Labor have helped expand K-12 teacher Registered Apprenticeship programs to 27 States with over 1,500 teacher apprentices to ensure our schools have enough educators to teach the next generation of leaders. Through the Department of Labor's Scaling Apprenticeship Readiness Across the Building Trades Initiative, we are enrolling at least 7,000 people in construction industry apprenticeships to build roads, bridges, and highways, so that America can have the best infrastructure in the world once again. Our 90-day Trucking Apprenticeship Challenge has helped get more truck drivers on the road, keeping our supply chains moving. And our 120-day Cybersecurity Apprenticeship Sprint has resulted in thousands of apprentices getting hired, who will learn the skills needed to protect our personal information and national interests from cyberthreats.

I have often said that America can be defined in one word: possibilities. That is what Registered Apprenticeships are all about—giving workers the skills and opportunity to support their families while building the industries of the future. During National Apprenticeship Week, we celebrate the apprentices across our country who lift our workforce to new heights and the apprenticeship programs that make their success possible. We recommit to doing what has always worked best for our Nation: investing in America and American workers.

NOW, THEREFORE, I, JOSEPH R. BIDEN JR., President of the United States of America, by virtue of the authority vested in me by the Constitution and the laws of the United States, do hereby proclaim November 12 through November 18, 2023, as National Apprenticeship Week. I urge the Congress, State and local governments, educational institutions, industry and labor leaders, apprentices, and all Americans to support Registered Apprenticeship programs in the United States of America and to raise awareness of their importance in building a diverse and robust workforce to strengthen our national economy.

IN WITNESS WHEREOF, I have hereunto set my hand this ninth day of November, in the year of our Lord two thousand twenty-three, and of the Independence of the United States of America the two hundred and forty-eighth.

[FR Doc. 2023-25339

Filed 11-14-23; 8:45 am]

Billing code 3395-F4-P